LEGAL SERVICES CORPORATION

Notice of Proposed Revisions for the LSC Grant Assurances for Calendar Year 2017 Basic Field Grants

AGENCY: Legal Services Corporation.

ACTION: Notice of proposed changes and request for comments.

SUMMARY: The Legal Services Corporation (“LSC”) intends to revise the LSC Grant Assurances for calendar year 2017 Basic Field Grants and is soliciting public comment on the proposed changes. The proposed revisions affect Grant Assurances 7, 15, 20, and 22. The proposed LSC Grant Assurances for calendar year 2017 Basic Field Grants, in redline format indicating the proposed changes to the current “LSC 2016 Grant Assurances,” are available at http://grants.lsc.gov/sites/default/files/Grants/ReferenceMaterials/2017-GrantAssurances-Proposed.pdf.

DATES: All comments and recommendations must be received on or before the close of business on May 5, 2016.

ADDRESSES: You may submit comments by any of the following methods:

• Agency Web site: http://www.lsc.gov/contact-us. Follow the instructions for submitting comments on the Web site.

• Email: LSCGrantAssurances@lsc.gov.

• Fax: (202) 337-6813.

• Mail: Legal Services Corporation, 3333 K Street NW., Washington, DC 20007.

All comments should be addressed to Reginald J. Haley, Office of Program Performance, Legal Services Corporation. Include “2017 LSC Grant Assurances” as the heading or subject line for all comments submitted.

FOR FURTHER INFORMATION CONTACT: Reginald J. Haley, haleyr@lsc.gov, (202) 295-1545.

SUPPLEMENTARY INFORMATION: The purpose of the LSC Grant Assurances is to delineate the rights and responsibilities of LSC and the recipient pursuant to the provisions of the grant. As a grant-making agency created by Congress, LSC has Grant Assurances that are intended to reiterate and/or clarify the responsibilities and obligations already applicable through existing law and regulations and/or obligate the recipient to comply with specific additional requirements in order to effectuate the purposes of the Legal Services Corporation Act, as amended, and other applicable law. A summary of the proposed changes follows.

Grant Assurance 7 requires LSC recipients to provide legal services in accordance with: (a) The grant proposal that LSC approved; (b) the LSC Performance Criteria; (c) the ABA Standards for the Provision of Civil Legal Aid; (d) the ABA standards for Programs Providing Civil Pro Bono Legal Services to Persons of Limited Means; and (e) any applicable code or rules of professional conduct, responsibility, or ethics. The proposed change clarifies the Grant Assurance and notifies the recipient that LSC's consent is required before the recipient makes significant changes to the delivery system described in the approved grant proposal or grant renewal application.

Grant Assurance 15 requires grantees to notify LSC of: (a) An office closing or relocation; (b) a change of board chairperson; (c) a change of chief executive officer; (d) a change in recipient's charter, articles of incorporation, by-laws, or governing body structure; and (e) a change in recipient's main email and Web site address. The proposed change updates the instruction for submitting these notifications to LSC.

Grant Assurance 20 requires LSC recipients to provide advance notification to LSC of a proposed merger, consolidation, change in recipient's name, or status as a legal entity. In addition, Grant Assurance 20 directs recipients to LSC's instructions for planning an orderly conclusion of the role and responsibility of an LSC recipient. The proposed change clarifies and adds to the requirements for notifying LSC of a significant change in recipient's status and updates the Web site link to LSC's instructions for planning an orderly conclusion of the role and responsibility of an LSC recipient.

Grant Assurance 22 requires recipients to give recognition and acknowledgement of LSC support and funding by displaying the LSC logo on the recipient's Web site, annual reports, press releases, letterhead, and other similar announcements and documents. The proposed change updates the Web site link to the digital and camera-ready versions of the LSC logo.

Dated: March 31, 2016.
Stefanie K. Davis,
Assistant General Counsel.

[FR Doc. 2016-07747 Filed 4-4-16; 8:45 am]

BILLING CODE 7050-01-P